DEPARTMENT OF TRANSPORTATION

Federal Aviation Administration

14 CFR Part 39

[Docket No. FAA-2011-0449; Project Identifier AD-2020-01464-R]

RIN 2120-AA64

Airworthiness Directives; Bell Helicopter Textron Canada Helicopters

AGENCY: Federal Aviation Administration (FAA), DOT.

ACTION: Proposed rule; withdrawal.

SUMMARY: The FAA is withdrawing a notice of proposed rulemaking (NPRM) that proposed to adopt a new airworthiness directive (AD) that would have applied to certain Bell Helicopter Textron Canada Model 206A, 206B, and 206B3 helicopters. The NPRM was prompted by the need for corresponding operating limitations prohibiting flight, including hover, with the litter doorpost removed when certain litter kits are installed. The NPRM would have required revising the Operating Limitations, Section 1, of the existing Rotorcraft Flight Manual (RFM) for your helicopter to add an operating limitation when a litter kit is installed to prohibit flight with the doorpost removed to prevent loss of structural integrity of the fuselage. Since issuance of the NPRM, the FAA has determined that an unsafe condition no longer exists. Accordingly, the NPRM is withdrawn.

DATES: The FAA is withdrawing the proposed rule published May 13, 2011 (76 FR 27958), as of March 9, 2021.

ADDRESSES:

Examining the AD Docket

You may examine the AD docket on the internet at https://www.regulations.gov by searching for and locating Docket No. FAA-2011-0449; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Kristi Bradley, Aviation Safety Engineer, General Aviation & Rotorcraft Section, International Validation Branch, FAA, 10101 Hillwood Pkwy., Fort Worth, TX 76177; telephone (817) 222-5110; email kristin.bradley@faa.gov.

SUPPLEMENTARY INFORMATION:

Discussion

The FAA has issued an NPRM that proposed to amend 14 CFR part 39 by adding an AD that would apply to the specified products. The NPRM was published in the Federal Register on May 13, 2011 (76 FR 27958). The NPRM was prompted by the need for corresponding operating limitations prohibiting flight, including hover, with the litter doorpost removed when certain litter kits are installed.

The NPRM proposed to require revising the existing RFM for your helicopter by inserting into the Operating Limitations, Section 1, of the existing RFM for your helicopter the following statement: “Flight, including hover, with litter doorpost removed is prohibited.” This revision would have been made by pen and ink changes, inserting a copy of this AD into the existing RFM for your helicopter, or inserting a copy of the RFM Supplement (RFMS) dealing with Litter Kits into the existing RFM for your helicopter as follows: For Model 206A helicopters—inserting RFMS BHT-206A-FMS-8, dated December 30, 2009, into RFM BHT-206A-FM-1, dated July 2, 2009; for Model 206B helicopters—inserting RFMS BHT-206B-FMS-8, dated December 30, 2009, into RFM BHT-206B-FM-1, dated July 2, 2009; and for Model 206B3 helicopters—inserting RFMS BHT-206B3-FMS-2, dated December 30, 2009, into RFM BHT-206B3-FM-1, dated March 24, 2010. The proposed actions were intended to add an operating limitation when a litter kit is installed to prohibit flight with the doorpost removed to prevent loss of structural integrity of the fuselage.

Actions Since the NPRM Was Issued

Since issuance of the NPRM, reevaluation of current fleet safety data indicates that there is not an unsafe condition and AD action is no longer necessary. There are no recent records of safety issues related to the unsafe condition previously described. Therefore, the FAA has determined that AD action is not required. Withdrawal of the NPRM constitutes only such action and does not preclude the agency from issuing future rulemaking on this issue, nor does it commit the agency to any course of action in the future.

The FAA's Aircraft Certification Service has also changed its organizational structure. The new structure replaces product directorates with functional divisions. We have revised some of the office titles and nomenclature throughout this proposed AD to reflect the new organizational changes. Additional information about the new structure can be found in the Notice published on July 25, 2017 (82 FR 34564).

Lastly, the identification of “Directorate Identifier 2010-SW-021-AD” has been changed to “Project Identifier AD 2020-01464-R.”

Comments

The FAA gave the public the opportunity to comment on the NPRM. The FAA received no comments on the NPRM or on the determination of the cost to the public.

FAA's Conclusions

Upon further consideration, the FAA has determined that the NPRM is unnecessary. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2011-0449, which was published in the Federal Register on May 13, 2011 (76 FR 27958), is withdrawn.

Issued on February 26, 2021.
Gaetano A. Sciortino,
Deputy Director for Strategic Initiatives, Compliance & Airworthiness Division, Aircraft Certification Service.

[FR Doc. 2021-04508 Filed 3-8-21; 8:45 am]

BILLING CODE 4910-13-P